DEPARTMENT OF HEALTH AND HUMAN SERVICES

Administration for Children and Families

Submission for OMB Review; Comment Request

Title: Third Grade Follow-up to the Heat Start Impact Study.

OMB No.: 0970-0229.

Description: The Administration for Children and Families (ACF) within the Department of Health and Human Services (HHS) is requesting comments on plans to implement a third grade follow-up to the Head Start Impact Study. This study will collect information for determining, on a national basis, how Head Start affects outcomes in the third grade for children who participated in the program as compared to children not enrolled in Head Start and to determine under which conditions Head Start Works best and for which children.

The Head Start Impact Study was longitudinal study that involved approximately 5,000 first-time-enrolled, three- and four-year-old preschool children across 84 nationally representative grantee/delegate agencies (in communities where there were more eligible children and families than can be served by the program). The participating children were randomly assigned to either a Head Start group (that could enroll in Head Start services) or a control group (that could not enroll in Head Start services but could enroll in other available services selected by their parents). Data collection for the study began in the fall of 2002 and extended through spring 2006.

It is the intention of the Administration for Children and Families to examine outcomes for this sample of children and families during the spring of the children's third grade year. Data will be collected in the spring of 2007 (for the four-year-old cohort) and the spring of 2008 (for the three-year-old cohort). The domains of development to be assessed include demographic characteristics of the children and families, as well as children's cognitive development, school achievement and adjustment, socio-emotional functioning, heath and access to health care, and relationships with peers. Information will also be collected on parents' involvement in educational activities, mental health and well-being, and monitoring and other parenting practices, and information related to the characteristics and quality of the schools and classrooms that children attend.

Respondents: Individuals or households and school districts (principals and teachers).

Annual Burden Estimates
Instrument | Number of respondents | Number of responses per respondent | Average burden hours per response | Total burden hours
Year 1 (spring 2007):
Parent Tracking Interview | 2,559 | 1 | 0.166 | 426
Parent Interview | 1,720 | 1 | 1.00 | 1,720
Child Assessment | 1,720 | 1 | 1.00 | 1,720
Teacher Survey/TCR | 2,580 | 1 | 0.50 | 1,290
Principal Survey | 1,462 | 1 | 0.33 | 487
Year 2 (fall 2007):
Parent Tracking Interview | 4,667 | 1 | 0.166 | 778
Year 2 (spring 2008):
Parent Tracking Interview | 2,108 | 1 | 0.166 | 351
Parent Interview | 2,042 | 1 | 1.00 | 2,042
Child Assessment | 2,042 | 1 | 1.00 | 2,042
Teacher Survey/TCR | 3,063 | 1 | 0.50 | 1,532
Principal | 1,736 | 1 | 0.33 | 579

Estimated Total Annual Burden Hours: 6,484

Additional Information: Copies of the proposed collection may be obtained by writing to the Administration for Children and Families, Office of Information Services, 370 L'Enfant Promenade, SW., Washington, DC 20447, Attn: ACF Reports Clearance Officer. E-mail address: infocollection@ach.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, E-mail address: Karen_T._Matsuoka@omb.eop.gov, Attn: Desk Officer for ACF.

Dated: November 28, 2006.
Robert Sargis,
Reports Clearance Officer.

[FR Doc. 06-9504 Filed 12-1-06; 8:45 am]

BILLING CODE 4184-01-M